NATIONAL AERONAUTICS AND SPACE ADMINISTRATION

[Notice (04-110)]

Aerospace Safety Advisory Panel Meeting

AGENCY: National Aeronautics and Space Administration.

ACTION: Notice of meeting.

SUMMARY: In accordance with the Federal Advisory Committee Act, Public Law 92-463, as amended, the National Aeronautics and Space Administration announces a forthcoming meeting of the Aerospace Safety Advisory Panel.

DATES: Thursday, October 21, 2004, 1 p.m. to 3 p.m. central time.

ADDRESSES: This meeting will be conducted via teleconference; hence participation will require contacting Ms. Susan M. Burch on (202) 358-0914 before noon eastern, October 20, 2004, and providing your name, affiliation, and phone number.

FOR FURTHER INFORMATION CONTACT: Mr. Mark D. Erminger, Aerospace Safety Advisory Panel Executive Director, Code Q-1, National Aeronautics and Space Administration, Washington, DC 20546, (202) 358-0914.

SUPPLEMENTARY INFORMATION: The Aerospace Safety Advisory Panel will hold its Quarterly Meeting. This meeting will be open to the public up to the capability of the teleconferencing system. This discussion is pursuant to carrying out its statutory duties for which the Panel reviews, identifies, evaluates, and advises on those program activities, systems, procedures, and management activities that can contribute to program risk. Priority is given to those programs that involve the safety of human flight. The major subjects covered will be: Space Shuttle Program, International Space Station Program, and Cross-Program Areas. The Aerospace Safety Advisory Panel is composed of nine members and one ex-officio member.

Any member of the public is permitted to file a written statement with the Panel at the time of the meeting. Presentations and written comments should be limited to the subject of safety in NASA. To do so, please contact Ms. Susan Burch on (202) 358-0914 at least 24 hours in advance.

R. Andrew Falcon,
Advisory Committee Management Officer, National Aeronautics and Space Administration.

[FR Doc. 04-22269 Filed 10-1-04; 8:45 am]

BILLING CODE 7510-13-P